DEPARTMENT OF COMMERCE

International Trade Administration

Submission for OMB Review; Comment Request

The Department of Commerce will submit to the Office of Management and Budget (OMB) for clearance the following proposal for collection of information under the provisions of the Paperwork Reduction Act (44 U.S.C. Chapter 35).

Agency: International Trade Administration, U.S. Department of Commerce.

Title: Proposed Information Collection; Comment Request; Swiss-U.S. Privacy Shield; Invitation for Applications for Inclusion on the Supplemental List of Arbitrators.

OMB Control Number: 0625-0278.

Form Number(s): None.

Type of Request: Regular submission.

Number of Respondents: 20.

Average Hours per Response: 240 Minutes.

Burden Hours: 80.

Needs and Uses: Under the Swiss- U.S. Privacy Shield, the U.S. Department of Commerce (DOC) and the Swiss Administration have committed to implement an arbitration mechanism to provide Swiss individuals with the ability to invoke binding arbitration to determine, for residual claims, whether an organization has violated its obligations under the Privacy Shield. The DOC and the Swiss Administration will work together to implement the arbitration mechanism, including developing a list of up to 5 arbitrators. While the DOC is not currently seeking applications for inclusion on the list, it may do so in the future to maintain the list. The arbitrators are chosen on the basis of independence, integrity, and expertise. Parties to a binding arbitration under this Privacy Shield mechanism may only select arbitrators from the list of arbitrators developed under the EU-U.S. Privacy Shield Framework, as supplemented by the list of arbitrators developed under the Swiss-U.S. Privacy Shield Framework. The arbitral mechanism is a critical component of the Swiss-U.S. Privacy Shield Framework. More than 3,700 U.S.-based organizations currently rely on the EU-U.S. and Swiss-U.S. Privacy Shield frameworks to transfer the personal data from EU and Switzerland to the United States necessary to do business across the Atlantic. Such a data transfer mechanism is critically important, because it protects individual privacy while meeting the legitimate needs of companies thereby facilitating over $1 trillion in transatlantic trade.

Affected Public: Private individuals.

Frequency: Recurrent, depending on the number of arbitrators required to retain an active list of up to five arbitrators.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer.

[FR Doc. 2018-20782 Filed 9-24-18; 8:45 am]

BILLING CODE 3510-DR-P